DEPARTMENT OF COMMERCE

International Trade Administration

15 CFR Part 303

DEPARTMENT OF THE INTERIOR

Office of Insular Affairs

[Docket No. 080306383-8384-01]

RIN 0625-AA78

Changes in the Insular Possessions Watch, Watch Movement and Jewelry Programs 2006; Corrections

AGENCY: Import Administration, International Trade Administration, Department of Commerce; Office of Insular Affairs, Department of the Interior.

ACTION: Final rule.

SUMMARY: The Departments of Commerce and the Interior (the Departments) issue this rule to amend their regulations governing jewelry duty-refund benefits for producers in the United States insular possessions (the U.S. Virgin Islands, Guam, American Samoa and the Commonwealth of the Northern Mariana Islands) published on April 5, 2007 (72 FR 16713). This amendment is needed to correct the formula for the calculation of the jewelry duty-refund, in accordance with Public Law 108-429.

DATES: This rule is effective June 19, 2008.

FOR FURTHER INFORMATION CONTACT: Faye Robinson, Director, Statutory Import Programs Staff at (202) 482-3526.

SUPPLEMENTARY INFORMATION: The Departments of Commerce and the Interior (the Departments) published a document in the Federal Register on April 5, 2007 (72 FR 16712), amending their regulations governing watch duty-exemption allocations and the watch and jewelry duty-refund benefits for producers in the United States insular possessions (the U.S. Virgin Islands, Guam, American Samoa and the Commonwealth of the Northern Mariana Islands). That document inadvertently provided an incorrect formula for the calculation of the jewelry duty-refund in sections 303.15(b), 303.20(b)(1) and 303.20(b)(2). This document corrects the final regulations by revising the unit thresholds in the mid-year duty-refund benefit calculation to reflect the correct amounts. The unit thresholds are amended by replacing the amounts in sections 303.20(b)(1)(ii), (b)(1)(ii) and (b)(1)(iii) from 450,000; 600,000 and 750,000 to 3,533,334; 6,766,667 and 10,000,000, respectively. This rule also corrects the final regulations by revising the calculation and unit thresholds in the annual duty-refund benefit calculation to reflect the correct formula and amounts. The unit thresholds are amended by replacing the amounts in sections 303.20(b)(2)(ii), (b)(2)(ii) and (b)(2)(iii) from 450,000; 600,000 and 750,000 to 3,533,334; 6,766,667 and 10,000,000 respectively.

Classification

Administrative Procedure Act

The International Trade Administration (ITA) finds good cause under 5 U.S.C. 553(b)(B) to waive prior notice and the opportunity for comment as it is impracticable and contrary to the public interest. This final rule amends the regulations governing jewelry duty-refund benefits for producers in the United States insular possessions. A previously published rule inadvertently provided an incorrect formula and unit thresholds for the calculation of the jewelry duty-refund in sections 303.15(b), 303.20(b)(1) and (b)(2). This document corrects the final regulations by revising these sections to be consistent with ITA's statutory mandate to provide duty-refund benefits as provided in Public Law 106-36 and 108-429. If this amendment is not implemented immediately, the correct formula and maximum unit thresholds would not be in place when the Departments calculate the amount of the duty-refund in July 2008. In order to have the correct formula and unit thresholds in place by the time the refund is calculated, it is necessary to implement this rule immediately.

Regulatory Flexibility Act

Because a notice of proposed rulemaking and an opportunity for public comment are not required to be given for this rule under the Administrative Procedure Act or by any other law, the analytical requirements of the Regulatory Flexibility Act (5 U.S.C. 601 et seq.) are not applicable.

Paperwork Reduction Act

This final rule does not contain collection-of-information requirements subject to review and approval by OMB under the Paperwork Reduction Act (PRA). Notwithstanding any other provision of law, no person is required to respond to, nor shall any person be subject to a penalty for failure to comply with, a collection of information subject to the Paperwork Reduction Act unless that collection displays a valid OMB Control Number.

Executive Order 12866

It has been determined that this rule is not significant for purposes of Executive Order 12866.

Executive Order 13132

This rule does not contain policies with federalism implications as that term is defined in Executive Order 13132.

List of Subjects in 15 CFR Part 303

Administrative practice and procedure, American Samoa, Customs duties and inspection, Guam, Imports, Marketing quotas, Northern Mariana Islands, Reporting and recordkeeping requirements, Virgin Islands, Watches and jewelry.

Accordingly, 15 CFR Part 330 is corrected by making the following correcting amendments: For reasons set forth above, the Departments amend 15 CFR Part 303 as follows:

PART 303—WATCHES, WATCH MOVEMENTS AND JEWELRY PROGRAM

1. The authority citation for 15 CFR Part 303 continues to read as follows:

Authority: Pub. L. 97-446, 96 Stat. 2331(19 U.S.C. 1202, note); Pub. L. 103-465, 108 Stat. 4991; Pub. L. 94-241, 90 Stat. 263 (48 U.S.C. 1681, note); Pub. L. 106-36, 113 Stat.167; Pub. L. 108-429, 118 Stat. 2582.

§ 303.15 [Amended]

2. Section 303.15 is amended by removing “750,000” from the second sentence of paragraph (b) and adding “10,000,000” in its place.

3. Section 303.20(b) is revised to read as follows:

§ 303.20 Duty-refund calculations and miscellaneous provisions.

* * * * *

(b) Calculation of the value of the mid-year production incentive certificates.

(1) The value of each producer's certificate shall equal the producer's average creditable wage per unit shipped during the first six months of the calendar year multiplied by the sum of:

(i) The number of units shipped up to 300,000 units times a factor of 90%; plus

(ii) Incremental units shipped up to 3,533,334 units times a factor of 85%; plus

(iii) Incremental units shipped up to 6,766,667 units times a factor of 80%; plus

(iv) Incremental units shipped up to 10,000,000 units times a factor of 75%.

(2) Calculation of the value of the annual production incentive certificates. The value of each producer's certificate shall equal the producer's average creditable benefit per unit based on creditable wages, health insurance, life insurance and pension benefits averaged from the amount of duty free units shipped during the calendar year multiplied by the sum of the following to obtain the total verified amount of the annual duty-refund per company. This amount would then be adjusted by deducting the amount of the mid-year duty-refund already issued.

(i) The number of units shipped up to 300,000 units times a factor of 90%; plus

(ii) Incremental units shipped up to 3,533,334 units times a factor of 85%; plus

(iii) Incremental units shipped up to 6,766,667 units times a factor of 80%; plus

(iv) Incremental units shipped up to 10,000,000 units times a factor of 75%.

* * * * *

Dated: June 5, 2008.
Carole Showers,
Acting Deputy Assistant Secretary for Policy and Negotiations, Department of Commerce.
Stephen Sander,
Acting Director, Office of Insular Affairs, Import Administration, Department of Interior.

[FR Doc. E8-13527 Filed 6-18-08; 8:45 am]

BILLING CODE 3510-DS-M(50%); 4310-93-M(50%)